DEPARTMENT OF THE INTERIOR

Bureau of Land Management

[NM-020-1110-PC, NM-020-1220-PC]

Notice of Public Land Closure, Ute Mountain, Taos County, NM

AGENCY: Bureau of Land Management, Interior, Taos Field Office, New Mexico.

ACTION: Temporary closure of certain recently acquired public lands near Ute Mountain, Taos County, New Mexico, to public entry and use; notice.

SUMMARY: This notice closes to all public entry and use certain public lands managed by the Bureau of Land Management (BLM) in the vicinity of Ute Mountain, in Taos County, New Mexico, in order to protect the land and its resources until BLM prepares a management plan for the area. Excepted from this emergency closure is the Rio Grande Gorge below the rim, which will remain open to foot travel and boating between June 1 and March 31 each year. Also excepted from the closure are certain official activities.

EFFECTIVE DATE: December 31, 2003.

ADDRESSES: Send inquiries or suggestions to the Taos Field Office, Bureau of Land Management, 226 Cruz Alta Road, Taos, NM 87571.

FOR ADDITIONAL INFORMATION CONTACT: Ron Huntsinger, Taos Field Office Manager, (505) 758-8851.

SUPPLEMENTARY INFORMATION:

I. Background

The land subject to this closure is part of a tract of land being acquired by BLM primarily because of its value as wildlife habitat and open space for recreation. The Ute Mountain property is situated within and adjacent to the Rio Grande Wild and Scenic River corridor north of Taos, New Mexico, on the New Mexico-Colorado border. This property offers spectacular views of the Rio Grande Gorge and the Sangre de Cristo Mountains and encompasses the entire extinct volcano called Ute Mountain. The land includes the mountainous and forested former volcano, high mesa desert with sagebrush-grasslands, cliffs of the gorge, and riparian areas along the Rio Grande.

Ute Mountain rises to 10,093 feet from an elevation of about 7,600 feet at its base and has been a private sanctuary for elk, deer, antelope, and other game. The land is host to large herds of deer and elk. The property also provides critical riparian and breeding habitat for peregrine falcon, golden eagle, brown trout, and the federally-listed endangered southwestern willow flycatcher and threatened bald eagle. The property is bordered by Bureau of Land Management (BLM) lands and private lands. The western edge of the property, the Rio Grande Gorge, is an active recreation area, providing river sports and associated camping, hunting, picnicking, and wilderness recreation.

The property being closed is a little more than half of the entire 14,344-acre Ute Mountain Property. The Trust for Public Land (TPL) and BLM have completed the first phase of a multi-year effort to preserve Ute Mountain. TPL, a national non-profit land conservation organization, conveyed to BLM 7,924 acres of the Ute Mountain property, bringing part of one of New Mexico's most notable landscapes into permanent protection. When completed, the Ute Mountain property will be protected from development, leaving open a critical migratory wildlife corridor and adding approximately 7 miles of the Rio Grande to the active recreation area. BLM will manage the land, located within the Rio Grande Wild and Scenic River corridor, to protect its open space, recreational, and habitat values.

II. Lands Affected

This order affects public land in Taos County, New Mexico, described as: A certain tract of land near Costilla, Taos County, New Mexico; within the Sangre de Cristo Grant; described as part of projected Sections 24, 25, and 36, Township 32 North, Range 11 East; part of projected Sections 1, 2, 11, 12, and 13, Township 31 North, Range 11 East; part of projected Sections 19, 20, 21, 28, and 33, and all of projected Sections 29, 30, 31, and 32, Township 32 North, Range 12 East; part of projected Sections 4, 5, 8, 17, and 18, and all of projected Sections 6 and 7, Township 31 North, Range 12 East of the New Mexico principal meridian (New Mexico system); and further described as part of Tract “A” shown on a plat entitled “A Survey of the Westerly Portion of the Sangre de Cristo Grant,” by Leo Archuleta, NMLS no. 4249, dated February 1980.

This tract contains 7923.85 acres, more or less; all as shown on a survey plat entitled “Robert Starks to the Trust for Public Land” RGSS survey no. L203-A1, by Scott B. Crowl, NMLS no. 12441, dated June 16, 2003, as revised August 27, 2003.

III. Closure

In compliance with 43 CFR 8364.1(c), notice is hereby given that BLM is closing the public lands in the Ute Mountain Property. These restrictions will be in effect year-round from December 31, 2003, until rescinded by BLM. The order to close these lands is needed to protect the public land resources there until the land use plan for the tract is complete. BLM is establishing and will administer this emergency closure under the authority of 43 CFR 8364.1.

BLM finds good cause to publish this closure notice effective on the date of publication and without providing for public comment due to the immediate need to protect the habitat for the endangered and threatened species in the tract. Also, the regulations on Closures and Restrictions at 43 CFR 8364.1 do not require publication of a request for comments.

BLM hereby closes the described public lands to all entry and use, except for the Rio Grande Gorge below the rim, which will remain open to foot travel and boating between June 1 and March 31. Any person who fails to comply with this order may be subject to the penalties provided in 43 CFR 8360.0-7.

This closure will remain in effect until BLM completes the acquisition of the property, expected to occur no later than the end of FY 2005. At that time BLM will prepare a management plan with input from local residents and other interested parties. During this closure period, BLM will consult with the public and develop a process for completing a management plan for the area.

BLM will post closure signs at main entry points and trails in the area indicating the area closed and explaining the reason for the closure. Maps of the closure area and more detailed information are on file at the Taos Field Office.

IV. Exceptions

The following persons are exempt from this order: all Federal, State, and local officers or employees in the scope of their duties, members of any organized rescue or fire-fighting force in performance of an official duty, and persons authorized in writing by the Bureau of Land Management.

Dated: November 21, 2003.
Paul Williams,
Acting Field Office Manager.

[FR Doc. 03-32239 Filed 12-30-03; 8:45 am]

BILLING CODE 4310-40-P